DEPARTMENT OF TRANSPORTATION

Federal Aviation Administration

14 CFR Part 39

[Docket No. FAA-2021-0375; Project Identifier MCAI-2020-01245-R]

RIN 2120-AA64

Airworthiness Directives; Leonardo S.p.a. Helicopters

AGENCY: Federal Aviation Administration (FAA), DOT.

ACTION: Notice of proposed rulemaking (NPRM).

SUMMARY: The FAA proposes to adopt a new airworthiness directive (AD) for certain Leonardo S.p.a. Model AB139 and AW139 helicopters. This proposed AD was prompted by two events of uncommanded emergency flotation system (EFS) deployment during flight. This proposed AD would require replacing certain part-numbered EFS control panels and prohibit installing them. The FAA is proposing this AD to address the unsafe condition on these products.

DATES: The FAA must receive comments on this proposed AD by July 9, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address between 9 a.m. and 5 p.m., Monday through Friday, except Federal holidays.

For service information identified in this NPRM, contact Leonardo S.p.A. Helicopters, Emanuele Bufano, Head of Airworthiness, Viale G.Agusta 520, 21017 C.Costa di Samarate (Va) Italy; telephone +39-0331-225074; fax +39-0331-229046; or at https://www.leonardocompany.com/en/home. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-0375; or in person at Docket Operations between 9 a.m. and 5 p.m., Monday through Friday, except Federal holidays. The AD docket contains this NPRM, the European Aviation Safety Agency (now European Union Aviation Safety Agency) (EASA) AD, any comments received, and other information. The street address for Docket Operations is listed above.

FOR FURTHER INFORMATION CONTACT: Ronnea Derby, Aerospace Engineer, Denver ACO Branch, Compliance & Airworthiness Division, FAA, 26805 E 68th Ave., Mail Stop: Room 214; Denver, CO 80249; telephone (303) 342-1093; email Ronnea.L.Derby@faa.gov.

SUPPLEMENTARY INFORMATION:

Comments Invited

The FAA invites you to send any written relevant data, views, or arguments about this proposal. Send your comments to an address listed under ADDRESSES. Include “Docket No. FAA-2021-0375; Project Identifier MCAI-2020-01245-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Ronnea Derby, Aerospace Engineer, Denver ACO Branch, Compliance & Airworthiness Division, FAA, 26805 E 68th Ave., Mail Stop: Room 214; Denver, CO 80249; telephone (303) 342-1093; email Ronnea.L.Derby@faa.gov. Any commentary that the FAA receives which is not specifically designated as CBI will be placed in the public docket for this rulemaking.

Background

EASA, which is the Technical Agent for the Member States of the European Union, has issued EASA AD 2015-0172, dated August 21, 2015 (EASA AD 2015-0172), to correct an unsafe condition for AgustaWestland S.p.A (formerly Agusta S.p.A.), AgustaWestland Philadelphia Corporation (formerly Agusta Aerospace Corporation) (now Leonardo S.p.a.) Model AB139 and AW139 helicopters with an EFS installed. EASA advises of two events of uncommanded EFS deployment during flight. Subsequent investigation revealed that these conditions had been caused by improper design of the EFS control panel part numbers (P/Ns) 3G9560V00556 (for use with night vision goggle) and 3G9560V00557 (standard). This condition, if not addressed, could result in reduced control of the helicopter.

Accordingly, EASA AD 2015-0172 requires replacing EFS control panel P/Ns 3G9560V00556 and 3G9560V00557 with EFS control panel P/Ns 3G9560V00559 and 3G9560V00558, respectively. EASA AD 2015-0172 also prohibits installing EFS control panel P/Ns 3G9560V00556 and 3G9560V00557 on any helicopter.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of these same type designs.

Related Service Information

The FAA reviewed AgustaWestland Bollettino Tecnico No. 139-374, dated July 6, 2015. This service information specifies procedures for replacing EFS control panel P/Ns 3G9560V00556 and 3G9560V00557 with EFS control panel P/Ns 3G9560V00559 and 3G9560V00558, respectively. This service information also notes that EFS control panel P/Ns 3G9560V00556 and 3G9560V00557 can be upgraded by following Sirio Panel Service Bulletin 6WS-MI100135 Ed.01 and 6WS-MI100134 Ed.01.

Proposed AD Requirements in This NPRM

This proposed AD would require replacing EFS control panel P/Ns 3G9560V00556 and 3G9560V00557 with EFS control panel P/Ns 3G9560V00559 and 3G9560V00558, respectively. This proposed AD would also prohibit installing EFS control panel P/Ns 3G9560V00556 and 3G9560V00557 on any helicopter.

Differences Between This Proposed AD and the EASA AD

EASA AD 2015-0172 applies to Model AB139 and AW139 helicopters with an EFS installed, whereas this proposed AD would apply to those model helicopters with EFS control panel P/N 3G9560V00556 (for use with night vision goggle) or 3G9560V00557 (standard) installed instead. EASA AD 2015-0172 specifies replacing an affected EFS control panel within a compliance time of flight hours or months, whichever occurs first, based on helicopter configuration, whereas this proposed AD would require that replacement within a shorter compliance time in hours time-in-service but the same number of months, based on helicopter configuration instead.

Costs of Compliance

The FAA estimates that this AD, if adopted as proposed, would affect up to 133 helicopters of U.S. Registry. Labor rates are estimated at $85 per work-hour. Based on these numbers, the FAA estimates the following costs to comply with this proposed AD.

Replacing an EFS control panel would take about 1 work-hour and parts would cost about $12,342 for an estimated cost of $12,427 per helicopter and up to $1,652,791 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Leonardo S.p.a.: Docket No. FAA-2021-0375; Project Identifier MCAI-2020-01245-R.

(a) Comments Due Date

The FAA must receive comments on this airworthiness directive (AD) by July 9, 2021.

(b) Affected ADs

None.

(c) Applicability

This AD applies to Leonardo S.p.a. Model AB139 and AW139 helicopters, certificated in any category, with an emergency flotation system (EFS) control panel part number (P/N) 3G9560V00556 (for use with night vision goggle) or 3G9560V00557 (standard) installed.

(d) Subject

Joint Aircraft Service Component (JASC) Code: 3212, Emergency Flotation Section.

(e) Unsafe Condition

This AD was prompted by two events of uncommanded EFS deployment during flight. The FAA is issuing this AD to address improper design of certain EFS control panels. The unsafe condition, if not addressed, could result in reduced control of the helicopter.

(f) Compliance

Comply with this AD within the compliance times specified, unless already done.

(g) Required Actions

(1) At the following compliance time, replace EFS control panel P/N 3G9560V00556 or 3G9560V00557 with EFS control panel P/N 3G9560V00559 or 3G9560V00558, respectively:

(i) For helicopters with EFS P/N 3G9560F00111 or 3G9560F00113, with Aerosekur floats with “pyrotechnical” inflation system P/N 3G9560V01051 installed, within 94 hours time-in-service (TIS) or 3 months after the effective date of this AD, whichever occurs first.

(ii) For helicopters with EFS P/N 3G9560F00111 or 3G9560F00113, with Aerosekur floats with “SMA” inflation system P/N 3G9560V01052 installed, within 377 hours TIS or 12 months after the effective date of this AD, whichever occurs first.

(iii) For helicopters with EFS P/N 3G9560F00212 with Aerosekur floats with “fuse disk” inflation system P/N 3G9560V02051 installed, within 565 hours TIS or 18 months after the effective date of this AD, whichever occurs first.

(2) As of the effective date of this AD, do not install EFS control panel P/N 3G9560V00556 or 3G9560V00557 on any helicopter.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Related Information

(1) For more information about this AD, contact Ronnea Derby, Aerospace Engineer, Denver ACO Branch, Compliance & Airworthiness Division, FAA, 26805 E 68th Ave., Mail Stop: Room 214; Denver, CO 80249; telephone (303) 342-1093; email Ronnea.L.Derby@faa.gov.

(2) For service information identified in this AD, contact Leonardo S.p.A. Helicopters, Emanuele Bufano, Head of Airworthiness, Viale G.Agusta 520, 21017 C.Costa di Samarate (Va) Italy; telephone +39-0331-225074; fax +39-0331-229046; or at https://www.leonardocompany.com/en/home. You may view this referenced service information at the FAA, Office of the Regional Counsel, Southwest Region, 10101 Hillwood Pkwy., Room 6N-321, Fort Worth, TX 76177. For information on the availability of this material at the FAA, call (817) 222-5110.

(3) The subject of this AD is addressed in European Aviation Safety Agency (now European Union Aviation Safety Agency) (EASA) AD 2015-0172, dated August 21, 2015. You may view the EASA AD at https://www.regulations.gov in Docket No. FAA-2021-0375.

Issued on May 18, 2021.
Lance T. Gant,
Director, Compliance & Airworthiness Division, Aircraft Certification Service.

[FR Doc. 2021-10908 Filed 5-24-21; 8:45 am]

BILLING CODE 4910-13-P